ENVIRONMENTAL PROTECTION AGENCY

[FRL-7263-1]

Proposed Settlement Agreement, Clean Air Act Petition for Review

AGENCY: Environmental Protection Agency (EPA).

ACTION: Notice of proposed settlement agreement providing for a proposal to find that the Wallula, Washington PM-10 Nonattainment Area attained the PM-10 NAAQS by December 31, 2001, and related matters.

SUMMARY: EPA hereby gives notice of a proposed Settlement Agreement in the case entitled The Port of Walla Walla and The Boise Cascade Corp. v. EPA and Christine Todd Whitman, Administrator, No. 01-70576 (9th Cir.). EPA issues this notice in accordance with section 113(g) of the Clean Air Act, as amended (the “Act”), 42 U.S.C. 7413(g), which requires EPA to give notice and provide an opportunity for public comment on proposed settlement agreements.

The litigation challenges EPA's previous finding that the Wallula, Washington Nonattainment Area failed to attain the National Ambient Air Quality Standards (“NAAQS”) for particulate matter with an aerodynamic diameter of less than or equal to 10 microns (“PM-10”) by December 31, 1997, the attainment date for moderate PM-10 nonattainment areas. EPA published this finding at 66 FR 9663 (February 9, 2001). The Boise Cascade Corporation and the Port of Walla Walla filed a petition for review of this EPA action under section 307(b)(1) of the Act, 42 U.S.C. 7607(b)(1).

The proposed Settlement Agreement provides that EPA will undertake a rulemaking that will propose to find that the Wallula area did attain the PM-10 NAAQS by December 31, 2001, the attainment date for serious area PM-10 nonattainment areas, based upon a proposed finding that the exceedences of the PM-10 standards that occurred on certain dates were the result of natural events.

For a period of thirty (30) days following the date of publication of this notice, EPA will accept written comments relating to the proposed Settlement Agreement from persons who are not named as parties or interveners to this litigation. EPA or the Department of Justice may withhold or withdraw consent to the proposed Settlement Agreement if the comments disclose facts or circumstances that indicate that the agreement is inappropriate, improper, inadequate, or inconsistent with the requirements of the Act. Unless EPA or the Department of Justice makes such a determination following the comment period, EPA will take the actions set forth in the Settlement Agreement.

A copy of the proposed Settlement Agreement is available from Donna Deneen, Office of Air Quality, QAQ-107, 1200 Sixth Avenue, Seattle, Washington 98101, telephone (206) 553-6706. Written comments should be sent to Julie Vergeront, Esq., Office of Regional Counsel, ORC-158, 1200 Sixth Avenue, Seattle, Washington 98101, telephone (206) 553-1497. Comments must be submitted on or before September 19, 2002.

Lisa K. Friedman,
Associate General Counsel.

[FR Doc. 02-21197 Filed 8-19-02; 8:45 am]

BILLING CODE 6560-50-P